DEPARTMENT OF ENERGY

Federal Energy Regulatory Commission

Combined Notice of Filings

Take notice that the Commission has received the following Natural Gas Pipeline Rate and Refund Report filings:

Docket Number: PR21-15-000.

Applicants: Columbia Gas of Maryland, Inc.

Description: Tariff filing per 284.123(b),(e)/: CMD Rates effective Dec 11 2020 to be effective 12/11/2020 under PR21-15.

Filed Date: 1/11/2021.

Accession Number: 202101115173.

Comments/Protests Due: 5 p.m. ET 2/1/2021.

Docket Numbers: RP21-380-000.

Applicants: NEXUS Gas Transmission, LLC.

Description: § 4(d) Rate Filing: Negotiated Rate—CNX Gas to Direct Energy 961387 to be effective 1/14/2021.

Filed Date: 1/13/21.

Accession Number: 20210113-5032.

Comments Due: 5 p.m. ET 1/25/21.

Docket Numbers: RP21-381-000.

Applicants: Tennessee Gas Pipeline Company, L.L.C.

Description: § 4(d) Rate Filing: Abandonment of X-23 in Volume No.2 to be effective 2/12/2021.

Filed Date: 1/13/21.

Accession Number: 20210113-5060.

Comments Due: 5 p.m. ET 1/25/21.

Docket Numbers: RP21-382-000.

Applicants: Algonquin Gas Transmission, LLC.

Description: § 4(d) Rate Filing: Negotiated Rate—Yankee Gas 510802 Release eff 1-14-2021 to be effective 1/14/2021.

Filed Date: 1/13/21.

Accession Number: 20210113-5131.

Comments Due: 5 p.m. ET 1/25/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 14, 2021.
Kimberly D. Bose,
Secretary.

[FR Doc. 2021-01350 Filed 1-21-21; 8:45 am]

BILLING CODE 6717-01-P